DEPARTMENT OF HEALTH AND HUMAN SERVICES

Substance Abuse and Mental Health Services Administration

Agency Information Collection Activities; Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Outcome Measures (NOMs) for Substance Abuse Prevention—(OMB No. 0930-0230)—Revision

This revised instrument will allow SAMHSA to collect information on a new strategic initiative—Military Families. The new items will be added to the Center for Substance Abuse Prevention's (CSAP) National Outcome Measures for Substance Abuse Prevention (NOMs). Data are collected from SAMHSA/CSAP grants and contracts where community and participant outcomes are assessed. The analysis of these data helps determine whether progress is being made in achieving SAMHSA/CSAP's mission. The primary purpose of this system is to promote the use among SAMHSA/CSAP grantees and contractors of common National Outcome Measures recommended by SAMHSA/CSAP with significant input from panels of experts and state representatives.

With the addition of new questions regarding military families, there is a proposed new data collection instrument up for comment. Approval of this information collection will allow SAMHSA to continue to meet Government Performance and Results Act of 1993 (GPRA) reporting requirements that quantify the effects and accomplishments of its discretionary grant programs which are consistent with OMB guidance, and address goals and objectives outlined in the Office of National Drug Control Policy's Performance Measures of Effectiveness.

CSAP has increased the number of questions in the instrument to satisfy reporting needs. The following paragraphs present a description of the changes made to the information collection. These questions will be contained in new sections in the Services tool.

Military Family and Deployment— CSAP proposes to add the following 6 new items in the adult tool and 3 new items in the youth tool in a new section entitled “Military Family and Deployment.”

Adult

1. Have you ever served in the Armed Forces, in the Reserves, or the National Guard [select all that apply]? No, (Skip to #2)

1b. Are you currently on active duty in the Armed Forces, in the Reserves, or the National Guard [select all that apply]?

1c. Have you ever been deployed to a combat zone?

2. Is anyone in your family or someone close to you on active duty in the Armed Forces, in the Reserves, or the National Guard, or separated or retired from the Armed Forces, Reserves, or the National Guard? No, (Skip to next section)

3. What is the relationship of that person (Service Member) to you?

3b. Has the Service Member experienced any of the following (check all that apply):

○ Deployed in support of Combat Operations (e.g. Iraq or Afghanistan)

○ Was physically Injured during Combat Operations

○ Developed combat stress symptoms/difficulties adjusting following deployment, including PTSD, Depression, or suicidal thoughts

○ Died or was killed

Youth

1. Is anyone in your family or someone close to you on active duty in the Armed Forces, in the Reserves, or the National Guard, or separated or retired from Armed Forces, Reserves, or the National Guard? No, (Skip to next section)

2. What is the relationship of that person (Service Member) to you?

2b. Has the Service Member experienced any of the following (check all that apply):

○ Deployed in support of Combat Operations (e.g. Iraq or Afghanistan)

○ Was physically injured during combat operations

○ Developed combat stress symptoms/difficulties adjusting following deployment, including PTSD, Depression, or suicidal thoughts

○ Died or was killed

• Veteran Family Status and Areas of Deployment—SAMHSA is interested in collecting data on active duty and veteran military members. Collection of these data will allow CSAP to identify the number of veterans served, deployment status and location, and family veteran status in conjunction with the types of services they may receive. Identifying a participant's veteran status and deployment area allows CSAP and the grantees to monitor these participants and explore whether special services or programs are needed to treat them for substance abuse and other related issues. Identification of veteran status and other military family issues will also allow coordination between SAMHSA and other Federal agencies in order to provide a full range of services to veterans. CSAP will also be able to monitor their outcomes and activities per the NOMS. The total annual burden estimate is shown below:

SAMHSA/CSAP program | Number of grantees | Number of respondents | Responses per respondent | Hours/ response | Total hours
FY 11
Science/Services:
Fetal Alcohol | 23 | 4,800 | 3 | 0.4 | 5,760
Capacity:
HIV/Targeted Capacity | 122 | 31,964 | 3 | 0.83 | 79,590
SPF SIG | 51 |  | 0 |  |
SPF SIG/Community Level * |  | 765 | 1 | 0.83 | 635
SPF SIG/Program Level * |  | 19,125 | 3 | 0.4 | 22,950
PFS | 5 |  | 0 |  |
PFS/Community Level * |  | 75 | 1 | 0.83 | 62
PFS/Program Level * |  | 1,875 | 3 | 0.4 | 2,250
PPC | N/A | N/A | N/A | N/A | N/A
FY 12
Science/Services:
Fetal Alcohol | 23 | 4,800 | 3 | 0.4 | 5,760
Capacity:
HIV/Targeted Capacity | 122 | 31,964 | 3 | 0.83 | 79,590
SPF SIG | 51 |  | 0 |  |
SPF SIG/Community Level * |  | 765 | 1 | 0.83 | 635
SPF SIG/Program Level * |  | 19,125 | 3 | 0.4 | 22,950
PFS | 10 |  | 0 |  |
PFS/Community Level * |  | 150 | 1 | 0.83 | 125
PFS/Program Level * |  | 3,750 | 3 | 0.4 | 4,500
PPC | 50 | 25,000 | 1 | 0.83 | 20,750
FY 13
Science/Services:
Fetal Alcohol | 23 | 4,800 | 3 | 0.4 | 5,760
Capacity:
HIV/Targeted Capacity | 122 | 31,964 | 3 | 0.83 | 79,590
SPF SIG | 35 |  | 0 |  |
SPF SIG/Community Level * |  | 525 | 1 | 0.83 | 436
SPF SIG/Program Level * |  | 13,125 | 3 | 0.4 | 15,750
PFS | 15 |  | 0 |  |
PFS/Community Level * |  | 225 | 1 | 0.83 | 187
PFS/Program Level * |  | 5,625 | 3 | 0.4 | 6,750
PPC | 50 | 25,000 | 1 | 0.83 | 20,750
Annual Average |  | 11,271 |  |  | 18,739
* The Strategic Prevention Framework State Incentive Grant (SPF SIG) and Partnerships for Success (PFS) have a three level evaluation: The Grantee, Community and Program Level. The Grantee level data will be pre-populated by SAMHSA. The use of the Community Level instrument is optional as they relate to targeted interventions implemented during the reporting period. At the program level, items will be selected in line with direct services implemented.

Send comments to Summer King, SAMHSA Reports Clearance Officer, Room 8-1099, 1 Choke Cherry Road, Rockville, MD 20857 or e-mail her a copy at summer.king@samhsa.hhs.gov. Written comments should be received within 60 days of this notice.

Dated: June 8, 2011.
Elaine Parry,
Director, Office of Management, Technology and Operations.

[FR Doc. 2011-14796 Filed 6-14-11; 8:45 am]

BILLING CODE 4162-20-P